DEPARTMENT OF COMMERCE

National Oceanic and Atmospheric Administration

50 CFR Part 300

[Docket No. 011005243-1243-01; I.D. 102401B]

International Fisheries Regulations; Pacific Tuna Fisheries; Establishment of Incidental Catch Limit for Yellowfin Tuna Taken by the U.S. Purse Seine Fishery in the Eastern Pacific Ocean

AGENCY: National Marine Fisheries Service (NMFS), National Oceanic and Atmospheric Administration (NOAA), Commerce.

ACTION: Fishing restrictions; request for comments.

SUMMARY: NMFS announces that the 2001 yellowfin tuna quota has been reached and a 15-percent incidental catch limit is now in effect for yellowfin tuna taken in the U.S. purse seine fishery in the Commission’s Yellowfin Regulatory Area (CYRA) of the Inter-American Tropical Tuna Commission (IATTC) through the remainder of 2001. This action is taken in accordance with a resolution adopted by the IATTC and approved by the Department of State (DOS).

DATES: Effective 12:01 a.m., October 28, 2001, through 11:59 p.m., December 31, 2001. Comments will be accepted through November 21, 2001.

ADDRESSES: Submit comments to Rodney R. McInnis, Acting Regional Administrator, Southwest Region (Regional Administrator), NMFS, 501 W. Ocean Boulevard, Suite 4200, Long Beach, CA 90802-4213.

FOR FURTHER INFORMATION CONTACT: Svein Fougner at 562-980-4040.

SUPPLEMENTARY INFORMATION: This action is taken under the authority of the regulations at 50 CFR part 300, subpart C, which implement the Tuna Conventions Act (16 U.S.C. 955). The United States is a member of the IATTC, which was established under the Convention for the Establishment of an Inter-American Tropical Tuna Commission signed in 1949. The IATTC was established to provide an international arrangement to ensure the effective international conservation and management of tunas and tuna-like fishes in the Convention Area. The IATTC maintains a scientific research and fishery monitoring program and annually assesses the status of stocks of tuna and tuna fisheries to determine appropriate harvest limits or other measures to prevent overexploitation of the stocks and promote viable fisheries. The Convention Area is all waters of the eastern Pacific Ocean between 40° N. lat. and 40° S. lat. and east of 150° W. long. The boundary of the CYRA is described at 50 CFR 300.21.

At its annual meeting in June 2001, the IATTC adopted a resolution (which was subsequently agreed to by the DOS) recommending that action be taken by member nations and other fishing nations to limit the catch of yellowfin tuna in 2001 to 250,000 metric tons (mt), with the potential to increase the quota by up to three increments of 20,000 mt each (or a total quota of 310,000 mt) if the Director of IATTC concluded, based on catch and effort data, that the higher level of harvest would not pose a substantial danger of overfishing to the stocks.

Under regulations at 50 CFR 300.29(a), the Regional Administrator is authorized to notify tuna purse seine vessel owners and agents directly of any quotas and associated regulatory measures that have been recommended by the IATTC and approved by the DOS. On September 12, 2001, the Regional Administrator notified the vessel owners and agents of the 2001 yellowfin tuna quota and the incidental catch limit that would go into effect when the quota was reached. NMFS also announced the 2001 yellowfin tuna quota and incidental catch limit to the public in the Federal Register at 66 FR 53735, October 24, 2001.

Under regulations at 50 CFR 300.29(b), when advised by the Director of Investigations of the IATTC that a quota has been or is projected to be reached, the Regional Administrator may close the fishery and establish incidental catch allowances by direct notification to the owners or agents of U.S. vessels who are fishing in or are eligible to fish in the Convention Area. As soon as practicable after being advised of the closure, NMFS will publish the announcement in the Federal Register. The Director of Investigations of the IATTC advised the Regional Administrator on October 11, 2001, that the 2001 quota, including all 3 incremental increases, was projected to be reached on October 27, 2001, and that incidental catch limits would be in effect for the rest of the year. Accordingly, the incidental catch limit for yellowfin tuna taken in purse seine gear will go into effect on October 28, 2001, and last through calendar year 2001. That is, from October 28, 2001, through December 31, 2001, any individual purse seiner when fishing for other species of tuna may retain a maximum of 15-percent of yellowfin tuna relative to its total catch of all species of fish in that period.

For the reasons stated here and in accordance with the regulations at 50 CFR 300.29, NMFS announces that, after 12:01 a.m., October 28, 2001, through 1159 p.m., December 31, 2001, no U.S. vessel may use a purse seine fish to fish for tunas within the CYRA unless in compliance with the previously described measures.

Classification

This action is authorized by the regulations implementing the Tuna Conventions Act. The determination to take this action is based on the most recent data available. The aggregate data upon which the determination is based are available for public inspection at the Office of the Acting Regional Administrator (see ADDRESSES) during business hours. This action is taken under the authority of 50 CFR part 300, subpart C, and is exempt from review under Executive Order 12866.

Because prior notice and opportunity for public comment are not required for this rule by 5 U.S.C. 553, or any other law, the analytical requirements of the Regulatory Flexibility Act, 5 U.S.C., 601 et seq., are not applicable.

The Assistant Administrator for Fisheries, NOAA (AA) finds for good cause under 5 U.S.C. 553 (b)(B) that providing prior notice and an opportunity for public comment on this action is unnecessary because the rule authorizing this action specifies that the Regional Director may close the fishery by direct notification to the owners or agents of U.S. vessels who are fishing in or are eligible to fish in the Convention Area. The AA finds for good cause under 5 U.S.C. 553 (d)(3) that a 30-day delay in effectiveness for this 2001 quota would be contrary to the public interest. Such a delay could allow the quota to taken and the quota exceeded before yellowfin tuna becomes an incidental catch fishery.

Authority: 16 U.S.C. 951-961 and 971 et seq.

Dated: October 31, 2001.
Bruce C. Morehead
Acting Director, Office of Sustainable Fisheries, National Marine Fisheries Service.

[FR Doc. 01-27850 Filed 11-5-01; 8:45 am]

BILLING CODE 3510-22-S